DEPARTMENT OF HEALTH AND HUMAN SERVICES

Office of the Secretary

Grants and Cooperative Agreements Awards: Association of Schools of Public Health (ASPH)

AGENCY: Office of International and Refugee Health, Office of Public Health and Science, DHHS

ACTION: The Office of Public Health and Science announces that it will enter into an umbrella cooperative agreement in fiscal year 2000 with the Association of Schools of Public Health (ASPH). This cooperative agreement will establish a framework in which specific projects, which will further department program objectives, will be funded as they are identified over the 5 year period of the agreement. This agreement will be administered by the Office of International and Refugee Health, which will award individual projects on behalf of the DHHS agencies. The cooperative agreement will establish a ceiling of $6 million for the aggregate amount of the individual projects with funds to be obligated as the projects are funded.

SUMMARY: The purpose of the cooperative agreement with the Association of Schools of Public Health (ASPH) is to promote and sustain collaborations and partnerships between ASPH member schools and international schools of public health thereby improving the functions of these institutions, furthering the development of global public health professionals, and stimulating global public health policy.

This cooperative agreement is a collaborative effort between the Office of International and Refugee Health and the Association of Schools of Public Health (ASPH) to develop the next generation of professionals trained in public health and to promote and sustain the development of the global public health professional by facilitating collaborative efforts and partnerships between American schools of public health and schools abroad. These collaborations will include, but not be limited to, training opportunities such as internships and fellowships, research projects, exchanging information through publications, meetings, distance learning opportunities, and faculty exchanges. The collaborative effort will provide for a more diverse and globally capable public health workforce. In today's world, it is essential for public health workers both in the U.S. and abroad to be trained to address health issues in a global environment as well as those in their own nations. This cooperative agreement will provide a mechanism to stimulate global public health education. Results from collaborative research can be used in curriculum development, publications, and presentations at national or international meetings and to contribute to the improvement of global health. International cooperation such as this serves to meet the objectives of Healthy People 2010. This cooperative agreement will assist the OIRH in its mission to promote the health of the world's population by advancing the Department of Health and Human Service's global strategies and partnerships, thus serving the health of the people of the United States.

This program addresses the 1997 IOM report titled, “America's Vital Interest in Global Health: Protecting Our People, Enhancing Our Economy, and Advancing Our International Interests.” This IOM report states the need for public health workers to be exposed to international health training to deal with the health issues of a world that is growing more diverse, but closer due to international travel and commerce, for example, emerging and drug resistant infectious diseases in one country represent a threat to the health and economics of all countries. Tobacco is a global problem by virtue of global marketing and cultural development. Answers to these challenges requires global thinking, training, and collaboration.

AUTHORITY: This cooperative agreement is authorized by Section 307 of the Public Health Service Act.

Background

Assistance will be provided only to the Association of Schools of Public Health (ASPH). No other applications are solicited. ASPH is the only organization providing services specified under this cooperative agreement because:

1. ASPH represents the 29 accredited schools of public health in the United States. These schools represent the primary educational system that trains personnel to operate the Nation's public health agencies, and to administer disease prevention and health promotion programs. ASPH has the institutional knowledge of the needs of both the schools of public health and the public health agencies as well as the access and communications network to coordinate activities of the accredited schools of public health.

2. ASPH is the only organization that can comprehensively affect the development and implementation of international health curricula to public health workers in all of its 29 member schools of public health and provide international experiences to students and faculty in the environment of public health organizations.

3. ASPH is uniquely positioned to partner with international practitioners of public health because of its affiliation with international organizations such as the Association of Schools of Public Health in the European Region (ASPHER), the World Federation of Public Health Associations, the Pan American Health Organization (PAHO), and the World Health Organization (WHO).

4. ASPH is working through its Global Health Committee to provide the framework for its member schools of public health and the practitioners of public health in Federal, State and local governments to partner and share their experience and expertise with international schools of public health, and to enable the international perspectives of Public health to be incorporated into curricula for teaching health administration, health promotion and disease prevention, prevention-based health service delivery and health research methods. This will assist future public health workers to improve the health of the people of the United States and the world and to reduce health disparities suffered by racial and ethnic minorities. Such exchanges will assure consistent approaches to the preparation of public health workers worldwide and their performance in controlling today's major global health issues.

5. ASPH provides the structure and experience for instituting comprehensive international public health education programs and implementing programs that strengthen the public system by preparing public health workers to work in international locations and with diverse populations.

Where To Obtain Additional Information

If you are interested in obtaining additional information regarding this project, contact Jerry Rutkoski at 301-443-4560.

Dated: June 2, 2000.
David Satcher,
Assistant Secretary for Health and Surgeon General.

[FR Doc. 00-14532 Filed 6-8-00; 8:45 am]

BILLING CODE 4160-17-M